DEPARTMENT OF COMMERCE

National Oceanic and Atmospheric Administration

[I.D. 083004A]

Notice of Intent to Conduct Public Scoping and Prepare an Environmental Impact Statement on the Funding and Operation of Columbia River Hatcheries

AGENCY: National Marine Fisheries Service (NMFS), National Oceanic and Atmospheric Administration (NOAA), Commerce

ACTION: Notice of intent to prepare an environmental impact statement.

SUMMARY: NMFS is currently developing options for funding and operation of Columbia River basin hatcheries consistent with the Mitchell Act, Endangered Species Act (ESA), treaty Indian trust responsibilities, and broader NMFS objectives for sustainable salmon fisheries under the Magnuson-Stevens Fishery Conservation and Management Act (Magnuson-Stevens Act). This activity is a major Federal action significantly effecting the environment and, therefore must comply with the National Environmental Policy Act, (NEPA). NMFS will be the lead agency undertaking the NEPA process for the allocation and distribution of Federal funding authorized by the Mitchell Act for Columbia River basin hatcheries through preparation of an Environmental Impact Statement (EIS). NMFS provides this notice to: advise other agencies and the public of its intent to prepare an EIS; and obtain suggestions and information on the scope of issues and alternatives to include in the EIS.

DATES: Written scoping comments are encouraged and should be received at the appropriate address or fax number (see ADDRESSES) no later than 5 p.m. Pacific time on December 2, 2004. If the response to this Notice indicates there is a need, one or more public scoping meetings will be held. NMFS will notify the public of the time, date, and location of the meeting(s) in a subsequent Federal Register.

ADDRESSES: Address comments and requests for information related to preparation of the EIS, requests for public meetings, or requests to be added to the mailing list for this project, to Allyson Ouzts, NMFS Northwest Regional Office, 525 N.E. Oregon Street, Suite 510, Portland, OR 97232; facsimile (503) 872-2737. Comments may be submitted by e-mail to the following address: MitchellActEIS.nwr@noaa.gov. In the subject line of the e-mail, include the document identifier: Mitchell Act Hatchery EIS. Comments and materials received will be available for public inspection, by appointment, during normal business hours at the above address.

FOR FURTHER INFORMATION CONTACT: Allyson Ouzts at 503-736-4736. In addition, further information on the Mitchell Act hatchery program may be found at: www.nwr.noaa.gov.

SUPPLEMENTARY INFORMATION: The Mitchell Act (16 U.S.C. 755 et seq.), which was approved by Congress on May 11, 1938 (Public Law 75-502) and amended on August 8, 1946 (Public Law 79-676), provides authority for the funding, operation, and maintenance of hatcheries in the Columbia River basin in the States of Oregon, Washington, and Idaho. NMFS administers funds appropriated for the Mitchell Act program by Congress and provides annual funding to states, tribes, and other Federal agencies for the operation of Columbia River salmon and steelhead hatchery programs. Funds are used for salmon and steelhead production, monitoring, reform, and associated scientific investigations. Salmon and steelhead produced in these hatcheries are for harvest in the Columbia River basin and ocean fisheries consistent with the Magnuson-Stevens Act, treaty Indian trust responsibilities, and Court decisions (e.g. U.S. v. Oregon). Under the ESA, NMFS must ensure that hatchery operations in the Columbia River Basin do not jeopardize the survival and recovery of ESA listed salmon or steelhead. Potential ESA evaluations include section 7 consultations, section 10 permits, and determinations under NMFS' 4(d) Rule (July 10, 2000, 65 FR 42422). Consequently, NMFS must take two connected actions: (1) Allocate and distribute Mitchell Act funds for Columbia River hatchery operations; and, (2) make ESA determinations on the operation of Mitchell Act hatchery programs.

NMFS is seeking public input on the scope of the proposed action, including the range of reasonable alternatives and the associated impacts of any alternatives. Alternatives evaluated in the EIS may include: (1) current operation and funding of Mitchell Act hatchery programs (i.e., No Action Alternative); (2) where feasible, a conversion of hatchery programs currently operated to augment harvest into programs designed to aid in recovery of ESA listed salmon and steelhead; (3) movement of some hatchery production to areas upstream to accommodate different fisheries; (4) a change in the numbers and species of salmon and steelhead produced; and (5) an emphasis on maximizing the numbers of harvestable fish in certain areas.

Currently, most funds provided through the Mitchell Act support hatcheries located downstream of The Dalles Dam. However, NMFS will analyze the use of funds for hatchery production throughout the Columbia River basin in various alternatives. As a result, all counties with tributaries to the Columbia River that could support salmon and steelhead production may be affected by the proposed action. In Oregon, these counties include: Clatsop, Columbia, Multnomah, Clackamas, Hood River, Wasco, Sherman, Gilliam, Morrow, Umatilla, Yamhill, Washington, Polk, Marion, Benton, Linn, Lane, Wheeler, Union, Baker, Wallowa, and Grant Counties. In Washington, these counties include: Pacific, Wahkiakum, Cowlitz, Clark, Skamania, Klickitat, Benton, Franklin, Asotin, Columbia, Walla Walla, Whitman, Yakima, Kittitas, Chelan, Douglas, Grant, and Okanogan Counties. In Idaho, these counties include: Latah, Clearwater, Nez Perce, Lewis, Idaho, Valley, Lemhi, Custer, and Adams Counties.

The EIS will evaluate, to the extent possible, the effects of each alternative on the following resources: fish, wildlife, water quality, economic benefits, environmental justice, and tribal subsistence and ceremonial fisheries. In addition, each alternative will be analyzed in terms of estimated costs for implementation and benefits to fisheries and recovery of salmon. The Preferred Alternative will be identified at the earliest possible time in the EIS process as stipulated by Council on Environmental Quality regulations. The Preferred Alternative will identify a proposed plan for funding and operation of Mitchell Act hatchery programs after considering funding availability, consistency with the ESA, potential impacts on environmental resources, and broader objectives for harvest and/or conservation.

ESA listed species under NMFS jurisdiction that may potentially be affected by the proposed action include: Lower Columbia River Chinook Salmon (Oncorhynchus tshawytscha); Upper Willamette River Chinook Salmon (O. tshawytscha); Upper Columbia River Spring-Run Chinook Salmon (O. tshawytscha); Snake River Spring/Summer-Run Chinook Salmon (O. tshawytscha); Snake River Fall-Run Chinook Salmon (O. tshawytscha); Snake River Sockeye Salmon (O. nerka); Columbia River Chum Salmon (O. keta); Lower Columbia River Steelhead (O. mykiss); Upper Willamette River Steelhead (O. mykiss); Middle Columbia River Steelhead (O. mykiss); Upper Columbia River Steelhead (O. mykiss); and, Snake River Basin Steelhead (O. mykiss). ESA listed species regulated by the U. S. Fish and Wildlife Service that may potentially be affected by the proposed action include bull trout (Salvelinus confluentus) and bald eagles (Haliaeetus leucocephalus).

Comments and suggestions are invited from all interested parties to ensure that the EIS considers the full range of related issues and alternatives to the proposed action. NMFS requests that comments be as specific as possible. In particular, NMFS requests information regarding: other possible alternatives; the direct, indirect, and cumulative impacts that implementation of the proposed plan could have on endangered and threatened species and their communities and habitats; potential adaptive management and/or monitoring provisions; funding issues; baseline environmental conditions in counties that may be affected; other plans or projects that might be relevant to this proposed project; and potential methods to minimize and mitigate for impacts.

Written comments concerning the proposed action and its environmental review should be directed to NMFS as described above (see ADDRESSES). All comments and materials received, including names and addresses, will be made available to the public upon request.

The environmental review of this project will be conducted in accordance with the requirements of NEPA, as amended (42 U.S.C. 4321 et seq.), National Environmental Policy Act Regulations (40 CFR 1500 1508), NOAA Administrative Order 216-6, and other appropriate Federal laws and regulations.

Dated: August 30, 2004.
Alan D. Risenhoover,
Acting Director, Office of Sustainable Fisheries, National Marine Fisheries Service.

[FR Doc. 04-20157 Filed 9-2-04; 8:45 am]

BILLING CODE 3510-22-S